DEPARTMENT OF THE INTERIOR

Bureau of Land Management

[20XL.5017AR.LLID933000.L54200000.PN0000.LVDID2004100.4500143745]

Notice of Application for Recordable Disclaimer of Interest in Lands, Ada County, ID

AGENCY: Bureau of Land Management, Interior.

ACTION: Notice of application.

SUMMARY: An application has been filed with the Bureau of Land Management, Idaho State Office (BLM) by William Ditz, acting on behalf of the East Broadway Investment Company, an Idaho Limited Liability Company (EBIC), for a Recordable Disclaimer of Interest from the United States for land lying within railroad station ground right-of-way (ROW) no. IDI-253 in Ada County, Idaho. This notice is intended to inform the public of the pending application.

DATES: Comments on this application should be received by August 6, 2020.

ADDRESSES: Comments must be filed with June E. Shoemaker, Deputy State Director, Resources & Sciences, Bureau of Land Management, Idaho State Office, 1387 S Vinnell Way, Boise, ID 83709.

FOR FURTHER INFORMATION CONTACT: John Sullivan, Supervisory Realty Specialist, at the above address, by phone at (208) 373-3863, or email at jsullivan@blm.gov. Persons who use a telecommunications device for the deaf (TDD) may call the Federal Relay Service (FRS) at 1-800-877-8339 to contact Mr. Sullivan during normal business hours. The FRS is available 24 hours a day, 7 days a week, to leave a message or question. You will receive a reply during normal business hours.

SUPPLEMENTARY INFORMATION: Pursuant to Section 315 of the Federal Land Policy and Management Act of 1976 (43 U.S.C. 1745), the EBIC has filed an application for a Disclaimer of Interest for the following-described lands:

A parcel of land located in Government Lot 3 and the NE¼SW¼ of Section 7, T. 3 N., R. 1 E., Boise Meridian, Ada County, Idaho, more particularly described as follows:

Commencing at a 5/8″ rebar with an illegible cap marking the intersection of E 3rd Street and E Broadway Avenue;

Thence S 01° 21′ 54″ W, coincident with the centerline of said 3rd Street, a distance of 40.00 feet;

Thence N 88° 42′ 22″ W, 40.00 feet to the westerly right-of-way line of said E 3rd Street and the POINT OF BEGINNING;

Thence S 01° 21′ 54″ W, coincident with said westerly right-of-way line of E 3rd Street, a distance of 362.28 feet to the northerly right-of-way line of the Union Pacific Railroad;

Thence N 88° 30′ 19″ W, coincident with said northerly right-of-way line of the Union Pacific Railroad, a distance of 673.87 feet to the easterly right-of-way line of N Main Street;

Thence N. 00° 33′ 11″ E, coincident with said easterly right-of-way line of N Main Street, a distance of 359.94 feet to the southerly right-of-way line of E Broadway Avenue;

Thence S 88° 42′ 22″ E, coincident with said southerly right-of-way line of E Broadway Avenue, a distance of 678.97 feet to the POINT OF BEGINNING.

Said parcel contains 5.607 acres, more or less.

The above described land in section 7 is being acquired by the EBIC. As part of the proposed acquisition, Fidelity National Title Company is requiring EBIC to show that the United States no longer has any interest in the property.

Official United States land title records show that the described property is affected by railroad station ground right-of-way (ROW) no. IDI-253, which was issued by the United States to the Idaho Central Railroad on December 15, 1888, under the authority of the Railroad Act of March 3, 1875 (43 U.S.C. 934-939).

The official records further disclose that the described property was subsequently conveyed out of Federal ownership. On August 4, 1891, the United States issued patent no. 1065 to Joseph G. Reed for the E½SW¼ and W½SE¼ of Section 7, T. 3 N., R. 1 E., Boise Meridian, Idaho. On June 10, 1892, the United States issued patent no. 150 to Eliza A. Zenger for Lot 3 of Section 7, T. 3 N., R. 1 E., Boise Meridian, Idaho. Neither of the patents mention the previously issued railroad station ground ROW IDI-253.

The United States has no apparent claim to or interest in the described property because, under the authority of the Railroad Act of March 3, 1875, the Idaho Central Railroad, and any successors in interest, were granted the right to use the described lands for purposes appurtenant to the railroad. Further, upon abandonment, ROW interest previously held under the Railroad Act of March 3, 1875, devolves or transfers to the underlying landowner. The interest does not revert to the United States.

EBIC has reached agreement with the Union Pacific Railroad Company (successor-in-interest to Idaho Central Railroad) to purchase its remaining interest in the portion of railroad station ground ROW ID-253 affecting the described property. As such, station ground ROW IDI-253 will be abandoned, and the interest in the ROW will devolve to the current owners of the underlying property, which EBIC is acquiring. Issuance of a recordable disclaimer will remove a cloud of title to the land.

Comments, including names and street addresses of commentors, will be available for public review at the BLM Idaho State Office (see address above), during regular business hours, Monday through Friday, except Federal holidays. Before including your address, phone number, email address, or other personal identifying information in your comment, you should be aware that your entire comment—including your personal identifying information—may be made publicly available at any time. While you can ask us in your comment to withhold your personal identifying information from public review, we cannot guarantee that we will be able to do so.

If no valid objection is received, a Disclaimer of Interest may be approved stating that the United States has no valid interest in the above-described land.

(Authority: 43 U.S.C. 1745)

June E. Shoemaker,
Idaho Deputy State Director, Resources & Sciences.

[FR Doc. 2020-09885 Filed 5-7-20; 8:45 am]

BILLING CODE 4310-GG-P